DEPARTMENT OF TRANSPORTATION

Federal Aviation Administration

14 CFR Part 71

[Docket No. FAA-2005-20413; Airspace Docket No. 05-AAL-03]

RIN 2120-AA66

Establishment of Area Navigation (RNAV) Routes; AK

AGENCY: Federal Aviation Administration (FAA), DOT.

ACTION: Final rule.

SUMMARY: This action establishes eight high altitude area navigation (RNAV) routes in Alaska to support the Alaskan Region's Capstone Program. The Capstone Program is a Safety Program which seeks near term safety and efficiency gains by accelerating the implementation and use of modern technology. The FAA is taking this action to enhance safety and to improve the efficient use of the navigable airspace in Alaska.

DATES: 0901 UTC, September 1, 2005.

FOR FURTHER INFORMATION CONTACT: Ken McElroy, Airspace and Rules, Office of System Operations and Safety, Federal Aviation Administration, 800 Independence Avenue, SW., Washington,DC 20591; telephone: (202) 267-8783.

SUPPLEMENTARY INFORMATION:

History

On March 15, 2005, the FAA published in the Federal Register a notice of proposed rulemaking to establish high altitude RNAV Routes in Alaska (70 FR 12619). Interested parties were invited to participate in this rulemaking effort by submitting written comments on the proposal. Five comments were received.

Three commenters supported the proposal. Two other commenters supported the proposal but questioned the methodology used to determine the new routings. The comments critical of the proposal, involved concerns about the potential safety of the proposed routes and whether or not the proposed routes were up to FAA standards. The existing high altitude route structure has evolved over several years to connect the populated areas of Alaska while taking into consideration the limited radar, communication and navigational aid infrastructure. These limitations often required aircraft to file circuitous routes that resulted in increased costs. The proposed RNAV routes were developed to allow properly equipped aircraft to navigate more directly without the need for radar vectors from air traffic control. The new routes allow direct point-to-point travel or a shorter route around special use airspace.

All comments were fully considered before proceeding with this final rule. With the exception of editorial changes, this amendment is the same as that proposed in the notice.

Related Rulemaking

On April 8, 2003, the FAA published the Designation of Class A, B, C, D, and E Airspace Areas; Air Traffic Service Routes, and Reporting Points rule in the Federal Register (68 FR 16943). This rule adopted certain amendments proposed in Notice No. 02-20, RNAV and Miscellaneous Amendments. The rule adopted and revised several definitions in FAA regulations, including Air Traffic Service Routes, to be in concert with ICAO definitions; and reorganized the structure of FAA regulations concerning the designation of Class A, B, C, D, and E airspace areas; Air Traffic Service Routes; and reporting points. The purpose of the rule was to facilitate the establishment of RNAV routes in the NAS for use by aircraft with advanced navigation system capabilities.

On May 9, 2003, the FAA published the Establishment of RNAV rule in the Federal Register (68 FR 24864).

The Rule

The FAA amends Title 14 Code of Federal Regulations (14 CFR) part 71 by establishing eight RNAV routes in Alaska within the airspace assigned to the Anchorage Air Route Control Center (ARTCC). These routes were developed as part of the Capstone Program. This action will enhance safety, and facilitate the more flexible and efficient use of the navigable airspace for en route instrument flight rules (IFR) operations within Alaska.

High altitude RNAV routes are published in paragraph 2006 of FAA Order 7400.9M dated August 30, 2004, and effective September 16, 2004, which is incorporated by reference in 14 CFR 71.1. The high altitude RNAV routes listed in this document will be published subsequently in the order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

The FAA has determined that this action qualifies for categorical exclusion under the National Environmental Policy Act in accordance with FAA Order 1050.1E, Policies and Procedures for Considering Environmental Impacts. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9M, Airspace Designations and Reporting Points, dated August 30, 2004, and effective September 16, 2004, is amended as follows:

Paragraph 2006—Area Navigation Routes

* * * * * * *
Q-6 TKA to BRW [New]
TKA | VOR/DME | (Lat. 62°17′55″ N., long. 150°06′20″ W.)
JOKAP | WP | (Lat. 63°54′46″ N., long. 150°58′29″ W.)
KUTDE | WP | (Lat. 66°19′20″ N., long. 152°29′01″ W.)
LACIL | WP | (Lat. 69°30′18″ N., long. 155°00′34″ W.)
BRW | VOR/DME | (Lat. 71°16′24″ N., long. 156°47′17″ W.)
* * * * * * *
Q-8 ANC to GAL [New]
ANC | VOR/DME | (Lat. 61°09′03″ N., long. 150°12′24″ W.)
WEBIK | WP | (Lat. 63°07′48″ N., long. 155°29′18″ W.)
GAL | VORTAC | (Lat. 64°44′17″ N., long. 156°46′38″ W.)
* * * * * * *
Q-10 ENM to ULL [New]
ENM | VOR/DME | (Lat. 62°47′00″ N., long. 164°29′16″ W.)
ULL | VOR/DME | (Lat. 63°41′32″ N., long. 170°28′12″ W.)
* * * * * * *
Q-12 OTZ to SCC [New]
OTZ | VOR/DME | (Lat. 66°53′08″ N., long. 162°32′24″ W.)
SCC | VOR/DME | (Lat. 70°11′57″ N., long. 148°24′58″ W.)
* * * * * * *
Q-14 ODK to JOH [New]
ODK | VORTAC | (Lat. 57°46′30″ N., long. 152°20′23″ W.)
WUXAN | WP | (Lat. 59°53′00″ N., long. 149°00′00″ W.)
JOH | VOR/DME | (Lat. 60°28′51″ N., long. 146°35′58″ W.)
* * * * * * *
Q-16 ODK to MDO [New]
ODK | VORTAC | (Lat. 57°46′30″ N., long. 152°20′23″ W.)
ZAXUM | WP | (Lat. 58°41′15″ N., long. 147°53′26″ W.)
MDO | VOR/DME | (Lat. 59°25′19″ N., long. 146°21′00″ W.)
Q-17 HOM to MDO [New]
HOM | VOR/DME | (Lat. 59°42′34″ N., long. 151°27′24″ W.)
WUXAN | WP | (Lat. 59°53′00″ N., long. 149°00′00″ W.)
MDO | VOR/DME | (Lat. 59°25′19″ N., long. 146°21′00″ W.)
Q-18 GAL to BRW [New]
GAL | VORTAC | (Lat. 64°44′17″ N., long. 156°46′38″ W.)
BRW | VOR/DME | (Lat. 71°16′24″ N., long. 156°47′17″ W.)
* * * * * * *

Issued in Washington, DC, on June 16, 2005.
Edith V. Parish,
Acting Manager, Airspace and Rules.

[FR Doc. 05-12360 Filed 6-21-05; 8:45 am]

BILLING CODE 4910-13-P